DEPARTMENT OF HEALTH AND HUMAN SERVICES

Announcement of Meeting of the Secretary's Advisory Committee on National Health Promotion and Disease Prevention Objectives for 2030

AGENCY: Office of Disease Prevention and Health Promotion, Office of the Assistant Secretary for Health, Office of the Secretary, Department of Health and Human Services.

ACTION: Notice.

SUMMARY: The U.S. Department of Health and Human Services (HHS) announces the next meeting of the Secretary's Advisory Committee on National Health Promotion and Disease Prevention Objectives for 2030 (Committee). The meeting is open to the public and will be held in the Washington, DC metropolitan area. The Committee is working to accomplish its mission to provide independent advice based on current scientific evidence for use by the Secretary of the U.S. Department of Health and Human Services or a designated representative in the development of Healthy People 2030.

DATES: The Committee will meet on September 6, 2017, from 8:30 a.m. to 5:00 p.m. Eastern Time (ET), and September 7, 2017, from 8:30 a.m. to 2:30 p.m. ET.

ADDRESSES: The meeting will be held at the 20 F Street NW. Conference Center, located at 20th F Street NW., Washington, DC 20001. To register to attend the meeting or deliver oral public testimony, please visit the Healthy People Web site at https://www.healthypeople.gov.

FOR FURTHER INFORMATION CONTACT: Emmeline Ochiai, Designated Federal Officer, Secretary's Advisory Committee on National Health Promotion and Disease Prevention Objectives for 2030, U.S. Department of Health and Human Services, Office of the Assistant Secretary for Health, Office of Disease Prevention and Health Promotion, 1101 Wootton Parkway, Rm. LL-100, Rockville, MD 20852, (240) 453-8280 (telephone), (240) 453-8281 (fax). Additional information is available on the Healthy People Web site at https://www.healthypeople.gov.

SUPPLEMENTARY INFORMATION:

Appointed Committee Members: The names and biographies of the appointed Committee members are available at https://www.healthypeople.gov/2020/about/history-development/healthy-people-2030-advisory-committee.

Purpose of Meeting: In accordance with Federal Advisory Committee Act and to promote transparency of the process, deliberations of the Committee will occur in a public forum. At this meeting, the Committee will continue its deliberations from the last public meeting.

Background: The Committee, a federal advisory committee, is charged with issuing recommendations for the Secretary regarding the development and implementation of national health promotion and disease prevention objectives for 2030. The Committee will discuss the nation's health promotion and disease prevention objectives and will provide recommendations to improve health status and reduce health risks for the nation by the year 2030. The Committee will develop recommendations regarding the criteria for identifying a more focused set of measurable, nationally representative objectives for improving the health of the nation by the year 2030 and recommendations for engaging stakeholders in the implementation and achievement of the objectives. The Committee's advice must assist the Secretary in reducing the number of objectives, while ensuring that the selection criteria identifies the most critical public health issues that are high-impact priorities supported by current national data. Through the Healthy People initiative, HHS leverages scientific insights and lessons from the past decade, along with new knowledge of current data, trends, and innovations, to develop the next iteration of national health promotion and disease prevention objectives. Healthy People provides science-based, 10-year national objectives for promoting health and preventing disease. Since 1979, Healthy People has set and monitored national health objectives that meet a broad range of health needs, encourage collaboration across sectors, guide individuals toward making informed health decisions, and measure the impact of our prevention and health promotion activities. Healthy People 2030 health objectives will reflect assessments of major risks to health and wellness, changing public health priorities, and emerging technologies related to our nation's health preparedness and prevention.

Meeting Agenda: The meeting agenda will include (a) opportunity for the public to give oral testimony, (b) review of Committee work since the last public meeting, and (c) plans for future Committee work.

Public Participation at Meeting: Members of the public are invited to attend the Committee meeting. To attend the Committee meeting, individuals must pre-register at the Healthy People Web site at http://www.healthypeople.gov. Registrations must be completed by 5:00 p.m. ET on September 1, 2017. Space for the meeting is limited and registration will be accepted until maximum room capacity is reached. A waiting list will be maintained should registrations exceed room capacity. Individuals on the waiting list will be contacted as additional space for the meeting becomes available. Registration questions may be directed to: Jim Nakayama at events@nakamotogroup.com, or (240) 672-4011.

Public Comments and Meeting Documents: An opportunity to present to the Committee oral comments regarding the proposed Healthy People 2030 vision, mission, overarching goals, foundational principles, and plan of action will be provided at this meeting. Those wishing to present oral comment must pre-register at the Healthy People Web site at www.healthypeople.gov by 5:00 p.m. ET, on August 21, 2017, and must submit a written copy of their oral testimony by 5:00 p.m. ET, on August 30, 2017, to Jim Nakayama at events@nakamotogroup.com. The opportunity to deliver oral testimony is limited. Those presenting oral comments will have two (2) minutes to address the Committee. Guidelines for public comment submissions can be viewed at https://www.healthypeople.gov/2020/About-Healthy-People/Development-Healthy-People-2030/Public-Comment. Written public comments can be submitted and/or viewed at https://www.healthypeople.gov/2020/About-Healthy-People/Development-Healthy-People-2030/Public-Comment/Items-for-comment. Documents pertaining to Committee deliberations, including meeting agendas and summaries are available at https://www.healthypeople.gov/2020/About-Healthy-People/Development-Healthy-People-2030/Committee-Meetings. Questions regarding public comment may be directed to: Jim Nakayama at events@nakamotogroup.com or (240) 672-4011.

Authority: 42 U.S.C. 217a. The Secretary's Advisory Committee on National Health Promotion and Disease Prevention Objectives for 2030 is governed by provisions of the Federal Advisory Committee Act (FACA), Public Law 92-463, as amended (5 U.S.C., App.) which sets forth standards for the formation and use of federal advisory committees.

Dated: August 2, 2017.
Don Wright,
Deputy Assistant Secretary for Health (Disease Prevention and Health Promotion).

[FR Doc. 2017-16608 Filed 8-4-17; 8:45 am]

BILLING CODE 4150-32-P